DEPARTMENT OF THE INTERIOR

Fish and Wildlife Service

[FWS-R9-IA-2008-N0010; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by February 28, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

Applicant: Ecosystems West Consulting Group, Santa Cruz, CA, PRT-171719

The applicant requests a permit to export seeds from Yadon's piperia (Piperia yadonii) to the Kings Park and Botanic Garden, Australia for the purpose of scientific research. This notification covers activities conducted by the applicant for a five-year period.

Applicant: Duke Lemur Center, Durham, NC, PRT-170587

The applicant requests a permit to export tissue samples from cadavers of captive-bred Aye-aye (Daubentonia madagascariensis), Crowned lemur (Eulemar coronatus), Brown lemur (Eulemur fulvus albifrons), Mongoose lemur (Eulemur mongoz), Black lemur (Eulemur macaco flavifrons), Ring-tailed lemur (Lemur catta), Red-ruffed lemur (Varecia variegata rubera), and Black & white ruffed lemur (Varecia variegata variegata); and re-export tissue sample from cadaver of wild caught Verreaux's sifaka (Propithecus verreauxi) to the University of Adelaide Department of Anatomical Sciences for the purpose of enhancement of the survival of the species through scientific research. This notification covers activities to be conducted by the applicant over a five-year period.

Applicant: Zoological Society of San Diego/San Diego Zoo's Wild Animal Park, Escondido, CA, PRT-170588

The applicant requests a permit to export two captive-hatched Andean condors (Vultur gryphus) to the CORPOBOYACA, Boyaca, Columbia, for reintroduction into the wild to enhance the survival of the species.

Applicant: National Zoological Park, Washington, DC, PRT-172290

The applicant requests a permit to import 10 live cheetahs (Acinonyx jubatus) from the Cheetah Conservation Fund, Otjiwarongo, Namibia for the purpose of enhancement of the survival of the species.

Applicant: The White Oak Conservation Center, Yulee, FL, PRT-172374

The applicant requests a permit to import 4 live cheetahs (Acinonyx jubatus) from the Cheetah Conservation Fund, Otjiwarongo, Namibia for the purpose of enhancement of the survival of the species.

Applicant: Benjamin H. Leforce, Pond Creek, OK, PRT-170351

The applicant requests a permit to import the sport-hunted trophy of one male bontebok (Damaliscus pygargus pygargus) culled from a captive herd maintained under the management program of the Republic of South Africa, for the purpose of enhancement of the survival of the species.

Applicant: Scott J. Poole, Raleigh, NC, PRT-166590

The applicant requests a permit to import the sport-hunted trophy of one male bontebok (Damaliscus pygargus pygargus) culled from a captive herd maintained under the management program of the Republic of South Africa, for the purpose of enhancement of the survival of the species.

Applicant: Robert A. Dobson, III, Greenville, SC, PRT-171427

The applicant requests a permit to import the sport-hunted trophy of one male bontebok (Damaliscus pygargus pygargus) culled from a captive herd maintained under the management program of the Republic of South Africa, for the purpose of enhancement of the survival of the species.

Applicant: Kenneth B. Bishop, Victoria, TX, PRT-171618

The applicant requests a permit to import the sport-hunted trophy of one male bontebok (Damaliscus pygargus pygargus) culled from a captive herd maintained under the management program of the Republic of South Africa, for the purpose of enhancement of the survival of the species.

Applicant: James L. Holzhauer, Columbus, MS, PRT-172526

The applicant requests a permit to import the sport-hunted trophy of one male bontebok (Damaliscus pygargus pygargus) culled from a captive herd maintained under the management program of the Republic of South Africa, for the purpose of enhancement of the survival of the species.

Applicant: Drew Castleberry, Denizon, TX, PRT-172527

The applicant requests a permit to import the sport-hunted trophy of one male bontebok (Damaliscus pygargus pygargus) culled from a captive herd maintained under the management program of the Republic of South Africa, for the purpose of enhancement of the survival of the species.

Applicant: Charles F. Elzer III, Brandenton, FL, PRT-168884

The applicant requests a permit to import the sport-hunted trophy of one male bontebok (Damaliscus pygargus pygargus) culled from a captive herd maintained under the management program of the Republic of South Africa, for the purpose of enhancement of the survival of the species.

Dated: January 11, 2008.
Michael L. Carpenter,
Senior Permit Biologist, Branch of Permits, Division of Management Authority.

[FR Doc. E8-1491 Filed 1-28-08; 8:45 am]

BILLING CODE 4310-55-P